DEPARTMENT OF THE INTERIOR

Bureau of Land Management

[NV-930-07-1430-01; N-60607]

Notice of Realty Action, Lease and Sale of Public Lands for Recreation and Public Purpose (R&PP) Act Application N-60607, Humboldt County, Nevada

SUMMARY: In response to an application from the State of Nevada Department of Transportation for an administration/maintenance facility, the following described land has been identified as suitable for lease and sale and will be classified for lease and sale under the R&PP Act of June 14, 1926, as amended (43 U.S.C. 869, et seq.):

Mount Diablo Meridian, Nevada

T. 35 N., R. 37 E., Sec. 10: N½N½S½NE¼, S½NE¼NE¼, NE¼NE¼NE¼, S½NW¼NE¼NE¼, SE¼NW¼NE¼, S½SW¼NW¼NE¼.

Containing approximately 70.00 acres more or less.

The lands are not required for Federal purposes. Disposal is consistent with the Bureau's land use plan for the area and would be in the public's interest.

FOR FURTHER INFORMATION CONTACT: Ken Detweiler, Realty Specialist, 5100 East Winnemucca Blvd., Winnemucca, Nevada 89445, telephone (775) 623-1500.

SUPPLEMENTARY INFORMATION: The public lands are being offered to the State of Nevada Department of Transportation for an Administration/Maintenance Facility. The facility would include perimeter fencing, office buildings, vehicle storage areas, utilities including a septic system, storage facilities, fueling facilities and other structures and facilities associated with a typical Nevada Department of Transportation administration/maintenance facility.

The lease and/or patent, when issued will contain the following reservations to the United States:

1. A right-of-way thereon for ditches and canals constructed by the authority of the United States pursuant to the Act of August 30, 1890 (43 U.S.C. 945).

2. All mineral deposits in the lands so patented, and to it, or persons authorized by it, the right to prospect for, mine, and remove such deposits from the same under applicable law and such regulations as the Secretary of the Interior may prescribe.

And will be subject to:

1. Those rights for buried fiber optic cable purposes granted to Nevada Bell by Right-of-way CC-08790.

2. Those rights for highway purposes granted to the State of Nevada, Department of Transportation by Right-of-way CC-020742.

3. Those rights for highway purposes granted to the State of Nevada, Department of Transportation by Right-of-way N-3397.

4. Those rights for an access road granted to the Humboldt County, Board of Commissioner by Right-of-way N-48877.

5. An easement 30 feet in width along the south boundary of the N½N½S½NE¼, for road and public utility purposes to insure continued ingress and egress to adjacent lands.

Since the property has been developed, the lease and patent will contain a solid waste/hazardous substances(s) statement indemnifying the United States. Also, since hazardous substances may be stored on the parcel, the patent will contain a list of the hazardous substances and their period of storage on the parcel in compliance with requirements established by section 120(n) of the Comprehensive Environmental Response, Compensation and Liability Act (CERCLA), as amended by the Superfund Amendments & Reauthorization Act (SARA) of 1988.

Upon publication of this notice in the Federal Register, the lands will be segregated from all forms of appropriation under the public land laws, including the general mining laws, except for lease or conveyance under the R&PP Act.

For a period of 45 days from the date of publication of this notice in the Federal Register, interested persons may submit comments regarding the proposed lease/conveyance or classification of the lands to the Field Office Manager, Winnemucca Field Office, 5100 East Winnemucca Blvd., Winnemucca, Nevada 89445.

Classification Comments

Interested parties may submit comments involving the suitability of the land for an administration/maintenance facility. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for an administration/maintenance facility.

Any adverse comments will be reviewed by the State Director. In the absence of any adverse comments, the classification will become effective 60 days from the date of publication of this notice in the Federal Register.

Dated: March 22, 2000.
Terry A. Reed,
Field Office Manager, Winnemucca.

[FR Doc. 00-8126 Filed 3-31-00; 8:45 am]

BILLING CODE 4310-HC-P